EXPORT-IMPORT BANK

Intent To Conduct a Detailed Economic Impact Analysis

AGENCY: Export-Import Bank.

ACTION: Notice.

SUMMARY: This notice is to inform the public that the Export-Import Bank of the United States is re-notifying this transaction due to the length of time that has elapsed since it was initially posted (June 10, 2013) and because the transaction has not yet been submitted to the Board for consideration.

Pursuant to Section 2(e)(7)(B) of the Ex-Im Charter, this notice is to inform the public that the Export-Import Bank of the United States has received a request for a $99 million comprehensive loan guarantee to support the export of approximately $90 million worth of aluminum beverage cans and ends manufacturing equipment to China. The U.S. exports will enable the Chinese company to produce approximately 2.8 billion aluminum cans per year. In addition, the U.S. exports will enable the foreign buyer will expand its existing annual ends production capacities by 3.9 billion ends. All new production will be sold within China.

DATES: Comments are due August 1, 2014.

ADDRESSES: Comments can be sent electronically to economic.impact@exim.gov or by mail to 811 Vermont Avenue, Washington, DC 20571, attention Policy and Planning Division.

Signed:
Helene S. Walsh,
Vice President, Policy and Planning.

[FR Doc. 2014-16896 Filed 7-17-14; 8:45 am]

BILLING CODE 6690-01-P